DEPARTMENT OF DEFENSE

Office of the Secretary

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on January 10, 2005, unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on November 24, 2004, to the House Committee on Government Reform, the Senate Committee on Governmental Affairs, and the Office of Management and Budget (OMB) pursuant to paragraph 4c of Appendix I to OMB Circular No. A-130, ‘Federal Agency Responsibilities for Maintaining Records About Individuals,' dated February 8, 1996 (February 20, 1996, 61 FR 6427).

Dated: Dated December 6, 2004.
Jeannette Owings-Ballard,
OSD Federal Register Liaison Officer, Department of Defense.

DPR 30

SYSTEM NAME:

Department of Defense Readiness Reporting System (DRRS).

System location:

Office of the Secretary of Defense, Office of the Under Secretary of Defense for Personnel and Readiness, Director of Readiness, Programming and Assessment, 4000 Defense Pentagon, Washington, DC 20301-4000.

Military Major Commands of the U.S. Air Force, U.S. Army, U.S. Navy and U.S. Marine Corps. For a complete list of mailing addresses, contact the system manager.

Categories of individuals covered by the system:

All active duty, National Guard, and Reserve Military service members of the Air Force, Navy, Army, Marine Corps, and approved foreign military personnel assigned/attached to a readiness reporting unit under the auspices of Department of Defense Readiness Reporting guidelines and procedures.

Categories of Records in the system:

The system will display record/information pertaining to readiness-related decision making data that measures capability ot accomplish assigned missions at all DoD levels to include human resource status information on amount required authorized and assigned and limited individual personnel readiness data to include by name/Social Security Number, employer, rank/grade, duty status, and skill specialty. Data related to an individual is as follows:

Readiness resource data (rank/grade, duty status, skill specialty, and deployability) and related reason codes for readiness posture can be acquired and displayed for an individual. DDRS will never display full Social Security Numbers for system users.

Authority for maintenance of the system:

10 U.S.C. 117, Readiness Reporting Sytem: Establishment; Reporting to Congressional Committees; 10 U.S.C. 113, Secretary to Defense; DoD Directive 5149.2, Senior Readiness Oversight Council; DoD Directive 7730.65, Department of Defense Readiness Reporting System; and E.O. 9397 (SSN).

Purpose(s):

The Defense Readiness Reporting System (DRRS) provides the means to manage and report the readiness of the Department of Defense and its subordinate Components to execute the National Military Strategy as assigned by the Secretary of Defense in the Defense Planning Guidance, Contingency Planning Guidance, Theater Security Cooperation Guidance, and the Unified Command Plan. DRRS builds upon the processes and readiness assessment tools used in the Department of Defense to establish a capabilities-based, adaptive, near real-time readiness reporting system.

All DoD Components will use the DRRS information to identify critical readiness deficiencies, develop strategies for rectifying these deficiencies, and ensure they are addressed in appropriate program/budget planning or other DoD management systems.

The major subsystems of the Defense Readiness Reporting System include:

(a) The Enhanced Status of Resources and Training System (ESORTS) is an automated, near real-time readiness reporting system that provides resource standards and current readiness status for operational forces and defense support organizations in terms of their ability to perform their mission essential tasks. ESORTS allows users electronic access into multiple readiness community data sources using ESORT tools to view readiness-reporting data in a uniform fashion from any readiness data source.

(b) The Planning and Assessment Tools Suite (PATS) provides the capability to assess plans using real unit data gathered from ESORTS; test feasibility form forces, logistics, and other aspects and assesses the ability to execute multiple plans under the National Military Strategy; and supports rapid, adaptive planning in response to contingencies.

DDRS will employ Networks and Information Integration (NII) approved web-servicing techniques to acquire and share DRRS readiness information. DRRS will obtain readiness related personnel data from the Army Human Resource Center's Integrated Total Army Personnel Database (ITAPDB), Air Force's Military Personnel Data System (MilPDS), Navy's Type Command Readiness Management System (TRMS) and Marine Corps' Marine Corps Total Force System (MCTFS).

DRRS readiness assessment process are supported by web service agents that gather information from primary source data in the net-centric environment and perform analysis and web service notification. Data sources expose their readiness related data to DRRS by mapping their data to the DRRS Readiness Markup Language (RML) specification and expose it as a Web service. In this case, a Web service is a self-contained, modular unit of software application logic. Using the RML, data source providers can share their data directly with DRRS/ESORTS users in a consistent and meaningful way not tied to any one specific software platform. Once data source providers expose their selected data using Web services, the data can be repurposed for other approved readiness and DoD-wide uses. DRRS will operate in a Secret Internet Protocol Network (SIPRNet) environment where exposure will be limited to appropriately cleared personnel.

DDRS will permit commanders to obtain pertinent readiness data personnel assigned/attached to their units.

Routine users of records maintained in the system, including categories of users and the purposes of such uses:

In addition to those disclosures generally permitted under 5 U.S.C. 552a(b) of the Privacy Act, these records or information contained therein may be disclosed outside the DoD as routine use pursuant to 5 U.S.C. 552a(b)(3) as follows:

The DoD “Blanket Routine Uses” set forth at the beginning of the OSD compilation of systems of records notices also apply to this system.

Policies and practices for storing, retrieving, accessing, retaining, and disposing of records in the system:

Storage:

Electronic storage medium.

Retrievability:

Retrieved by individual's name and Social Security Number.

Safeguards:

Access to the Defense Readiness Reporting System is limited to authorized and appropriately cleared personnel as determined by the system manager. Defense Readiness Reporting System information/records are maintained in a controlled facility. Physical entry is restricted by use of locks, guards, and is accessible only to authorized, cleared personnel. Access to information/records is limited to person(s) responsible for servicing the record in performance of their official duties and who are properly screened and cleared for need-to-know. Access to computerized data is restricted by passwords, which are changed periodically.

Retention and disposal:

Disposition pending (treat records as permanent until the National Archives and Records Administration has approved the retention and disposition schedule).

System manager(s) and address:

Director of Readiness, Programming and Assessment, Office of the Secretary of Defense, Office of the Under Secretary Defense for Personnel and Readiness, 4000 Defense Pentagon, Washington, DC 20301-4000.

Notification procedure:

Individuals seeking to determine whether information about themselves is contained in this system should address written inquiries to the local commander. For a complete list of mailing addresses, contact the system manager.

Individual should provide their full name, Social Security Number, and military status or other information verifiable from the record itself.

Record access procedures:

Individuals seeking access to information about themselves contained in this system should address written inquiries to the local commander. For a complete list of mailing addresses, contact the system manager.

Individual should provide their full name, Social Security Number, and military status or other information verifiable from the record itself.

Contesting record procedures:

The OSD rules for accessing records, for contesting contents and appealing initial agency determinations are published in OSD Administrative Instruction 81; 32 CFR part 311; or may be obtained from the system manager.

Record source categories:

Information is obtained from DoD Staff, field installations and automated data systems for personnel and training.

Exemptions claimed for the system:

None.

[FR Doc. 04-27129 Filed 12-9-04; 8:45 am]

BILLING CODE 5001-06-M